DEPARTMENT OF TRANSPORTATION

Federal Aviation Administration

14 CFR Part 97

[Docket No. 30560 Amdt. No. 3227]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective July 27, 2007. The compliance date for each SIAP and/or Weather Takeoff Minimums is specified in the amendatory provisions.

The incorporation by reference of certain publications listed in the regulations is approved by the Director of the Federal Register as of July 27, 2007.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd., Oklahoma City, OK 73169 (Mail Address: P.O. Box 25082, Oklahoma City, OK 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on July 13, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

* * * Effective 30 AUG 2007

Bettles, AK, Bettles, RNAV (GPS) RWY 1, Orig

Bettles, AK, Bettles, RNAV (GPS) RWY 19, Orig

Bettles, AK, Bettles, LOC/DME RWY 1, Amdt 5

Bettles, AK, Bettles, VOR/DME RWY 1, Amdt 1

Bettles, AK, Bettles, GPS RWY 01, Orig, CANCELLED

Bettles, AK, Bettles, Takeoff Minimums and Obstacle DP, Amdt 2

Soldontna, AK, Soldontna, RNAV (GPS) RWY 7, Orig

Soldontna, AK, Soldontna, RNAV (GPS) RWY 25, Orig

Soldontna, AK, Soldontna, GPS RWY 07, Orig-A, CANCELLED

Soldontna, AK, Soldontna, GPS RWY 25, Orig, CANCELLED

Soldontna, AK, Soldontna, Takeoff Minimums and Obstacle DP, Amdt 2

Auburn, AL, Auburn-Opelika Robert G. Pitts, RNAV (GPS) RWY 36, Amdt 1

Pell City, AL, St Clair County, RNAV (GPS) RWY 2, Amdt 1

Pell City, AL, St Clair County, RNAV (GPS) RWY 20, Amdt 1

Pell City, AL, St Clair County, VOR-A, Amdt 8

Pell City, AL, St Clair County, Takeoff Minimums and Obstacle DP, Amdt 1

Mountain View, AR, Mountain View Wilcox Memorial Field, RNAV (GPS) RWY 27, Orig

Mountain View, AR, Mountain View Wilcox Memorial Field, NDB-A, Amdt 2B, CANCELLED

Grand Canyon, AZ, Grand Canyon National Park, Takeoff Minimums and Obstacle DP, Orig

Atwater, CA, Castle, ILS OR LOC/DME RWY 31, Amdt 1

Groveland, CA, Pine Mountain Lake, RNAV (GPS) RWY 9, Orig

Groveland, CA, Pine Mountain Lake, GPS RWY 9, Orig-A, CANCELLED

Apalachicola, FL, Apalachicola Muni, RNAV (GPS) RWY 6, Orig

Apalachicola, FL, Apalachicola Muni, RNAV (GPS) RWY 13, Amdt 1

Apalachicola, FL, Apalachicola Muni, RNAV (GPS) RWY 24, Orig

Apalachicola, FL, Apalachicola Muni, RNAV (GPS) RWY 31, Amdt 1

Apalachicola, FL, Apalachicola Muni, Takeoff Minimums and Obstacle DP, Orig

Pompano Beach, FL, Pompano Beach Airpark, Takeoff Minimums and Obstacle DP, Amdt 3

Adel, GA, Cook County, RNAV (GPS) RWY 23, Orig

Adel, GA, Cook County, Takeoff Minimums and Obstacle DP, Amdt 1

Cordele, GA, Crisp County-Cordele, RNAV (GPS) RWY 10, Orig

Cordele, GA, Crisp County-Cordele, RNAV (GPS) RWY 28, Orig

Cordele, GA, Crisp County-Cordele, Takeoff Minimums and Obstacle DP, Amdt 2

Dublin, GA, W. H. `Bud' Barron, ILS OR LOC RWY 2, Amdt 1

Dublin, GA, W. H. `Bud' Barron, Takeoff Minimums and Obstacle DP, Amdt 1

Toccoa, GA, Toccoa RG Letourneau Field, RNAV (GPS) RWY 2, Orig

Toccoa, GA, Toccoa RG Letourneau Field, RNAV (GPS) RWY 20, Orig

Toccoa, GA, Toccoa RG Letourneau Field, GPS RWY 02, Orig, CANCELLED

Toccoa, GA, Toccoa RG Letourneau Field, Takeoff Minimums and Obstacle DP, Amdt 3

Waynesboro, GA, Burke County, Takeoff Minimums and Obstacle DP, Orig

Winder, GA, Winder-Barrow, RNAV (GPS) RWY 13, Orig

Winder, GA, Winder-Barrow, RNAV (GPS) RWY 31, Orig

Winder, GA, Winder-Barrow, Takeoff Minimums and Obstacle DP, Orig

Chicago, IL, Chicago-O'Hare Intl, ILS OR LOC RWY 9R, Amdt 8

Chicago, IL, Chicago-O'Hare Intl, ILS OR LOC RWY 27L, Amdt 27, ILS RWY 27L (CAT II), ILS RWY 27L (CAT III)

Chicago, IL, Chicago-O'Hare Intl, RNAV (GPS) RWY 4L, Amdt 1

Chicago, IL, Chicago-O'Hare Intl, RNAV (GPS) RWY 9R, Amdt 1

Chicago, IL, Chicago-O'Hare Intl, RNAV (GPS) RWY 22R, Amdt 1

Chicago, IL, Chicago-O'Hare Intl, RNAV (GPS) RWY 27L, Amdt 1

Chicago, IL, Chicago-O'Hare Intl, RNAV (GPS) Y RWY 22R, Orig-B, CANCELLED

Chicago, IL, Chicago-O'Hare Intl, LOC RWY 4L, Amdt 20

Chicago, IL, Chicago-O'Hare Intl, Takeoff Minimums and Obstacle DP, Amdt 15

Flora, IL, Flora Muni, RNAV (GPS) RWY 3, Amdt 1

Flora, IL, Flora Muni, RNAV (GPS) RWY 21, Amdt 1

Marion, IL, Williamson County Regional, RNAV (GPS) RWY 2, Orig

Marion, IL, Williamson County Regional, RNAV (GPS) RWY 20, Orig

Marion, IL, Williamson County Regional, NDB RWY 20, Amdt 10

Marion, IL, Williamson County Regional, VOR RWY 2, Amdt 13

Marion, IL, Williamson County Regional, VOR RWY 20, Amdt 17

Qunicy, IL, Quincy Rgnl Baldwin Field, RNAV (GPS) RWY 22, Orig

Qunicy, IL, Quincy Rgnl Baldwin Field, VOR/DME RWY 22, Amdt 8

Qunicy, IL, Quincy Rgnl Baldwin Field, VOR/DME RNAV OR GPS RWY 31, Amdt 3A, CANCELLED

Qunicy, IL, Quincy Rgnl Baldwin Field, Takeoff Minimums and Obstacle DP, Orig

Fort Scott, KS, Fort Scott Muni, RNAV (GPS) RWY 18, Orig

Fort Scott, KS, Fort Scott Muni, RNAV (GPS) RWY 36, Orig

Fort Scott, KS, Fort Scott Muni, Takeoff Minimums and Obstacle DP, Orig

Topeka, KS, Forbes Field, ILS OR LOC RWY 31, Amdt 9C

Frankfort, KY, Capital City, LOC RWY 24, Amdt 2

Alexandria, LA, Alexandria Intl, RNAV (GPS) RWY 18, Amdt 1

Alexandria, LA, Alexandria Intl, RNAV (GPS) RWY 36, Orig

Alexandria, LA, Alexandria Intl, VOR/DME RWY 32, Amdt 1

Alexandria, LA, Alexandria Intl , Takeoff Minimums and Textual DP's, Orig

Kalamazoo, MI, Kalamazoo/Battle Creek Intl, ILS OR LOC RWY 35, Amdt 22

Kalamazoo, MI, Kalamazoo/Battle Creek Intl, RNAV (GPS) RWY 35, Orig

Kalamazoo, MI, Kalamazoo/Battle Creek Intl, NDB RWY 35, Amdt 19

Kalamazoo, MI, Kalamazoo/Battle Creek Intl, VOR RWY 35, Amdt 17

Kalamazoo, MI, Kalamazoo/Battle Creek Intl, Takeoff Minimums and Textual DP, Amdt 9

Lee's Summit, MO, Lee's Summit Municipal, RNAV (GPS) RWY 11,Orig

Lee's Summit, MO, Lee's Summit Municipal, RNAV (GPS) RWY 18, Amdt 1

Lee's Summit, MO, Lee's Summit Municipal, RNAV (GPS) RWY 29, Amdt 1

Lee's Summit, MO, Lee's Summit Municipal, RNAV (GPS) RWY 36, Amdt 1

Pascagoula, MS, Trent Lott Intl, ILS OR LOC RWY 17, Amdt 1

Pascagoula, MS, Trent Lott Intl, RNAV (GPS) RWY 17, Orig

Pascagoula, MS, Trent Lott Intl, RNAV (GPS) RWY 35, Orig

Pascagoula, MS, Trent Lott Intl, GPS RWY 17, Orig-A, CANCELLED

Pascagoula, MS, Trent Lott Intl, GPS RWY 35, Orig, CANCELLED

Jamestown, ND, Jamestown Regional, RNAV (GPS) RWY 4, Orig

Jamestown, ND, Jamestown Regional, RNAV (GPS) RWY 13, Orig

Jamestown, ND, Jamestown Regional, RNAV (GPS) RWY 22, Orig

Jamestown, ND, Jamestown Regional, VOR RWY 13, Amdt 8

Jamestown, ND, Jamestown Regional, Takeoff Minimums and Obstacle DP, Amdt 1

Albuquerque, NM, Albuquerque Intl Sunport, VOR OR TACAN RWY 8, Amdt 20A

Reno, NV, Reno/Tahoe Intl, ILS OR LOC/DME RWY 34L, Orig

Buffalo, NY, Buffalo Niagra Intl, Takeoff Minimums and Obstacle DP, Amdt 5

Norman, OK, University of Oklahoma Westheimer, RNAV (GPS) RWY 3, Orig

Norman, OK, University of Oklahoma Westheimer, RNAV (GPS) RWY 17, Orig

Norman, OK, University of Oklahoma Westheimer, NDB RWY 3, Amdt 1

Norman, OK, University of Oklahoma Westheimer, GPS RWY 3, Orig-B, CANCELLED

Norman, OK, University of Oklahoma Westheimer, GPS RWY 17, Amdt 1A, CANCELLED

Oklahoma City, OK, Wiley Post, RNAV (GPS) RWY 17L, Orig

Oklahoma City, OK, Wiley Post, GPS RWY 17L, Orig, CANCELLED

Marion, SC, Marion County, RNAV (GPS) RWY 4, Orig

Marion, SC, Marion County, NDB RWY 4, Amdt 4

Mobridge, SD, Mobridge Muni, RNAV (GPS) RWY 12, Orig

Mobridge, SD, Mobridge Muni, RNAV (GPS) RWY 30, Orig

Mobridge, SD, Mobridge Muni, NDB RWY 12, Amdt 2

Watertown, SD, Watertown Regional, RNAV (GPS) RWY 12, Orig

Watertown, SD, Watertown Regional, RNAV (GPS) RWY 17, Orig

Watertown, SD, Watertown Regional, RNAV (GPS) RWY 30, Orig

Watertown, SD, Watertown Regional, VOR OR TACAN RWY 17, Amdt 17

Watertown, SD, Watertown Regional, Takeoff Minimums and Obstacle DP, Orig

Wichita Falls, TX, Sheppard AFB/Wichita Falls Muni, ILS OR LOC RWY 33L, Amdt 12F, CANCELLED

Wichita Falls, TX, Sheppard AFB/Wichita Falls Muni, RNAV (GPS) RWY 15R, Amdt 1, CANCELLED

Wichita Falls, TX, Sheppard AFB/Wichita Falls Muni, RNAV (GPS) RWY 33L, Amdt 1A, CANCELLED

Wichita Falls, TX, Sheppard AFB/Wichita Falls Muni, NDB RWY 33L, Amdt 11B, CANCELLED

Wichita Falls, TX, Sheppard AFB/Wichita Falls Muni, VOR-D, Amdt 14, CANCELLED

Wichita Falls, TX, Sheppard AFB/Wichita Falls Muni, Takeoff Minimums and Obstacle DP, Amdt 2, CANCELLED

Front Royal, VA, Front Royal-Warren County, Takeoff Minimums and Obstacle DP, Orig

Quinton, VA, New Kent County, Takeoff Minimums and Obstacle DP, Orig

Pasco, WA, Tri-Cities, VOR RWY 21R, Amdt 5

Seattle, WA, Seattle-Tacoma Intl, ILS OR LOC RWY 16L, Amdt 3B

ILS RWY 16L (CAT II), ILS RWY 16L (CAT III)

Boscobel, WI, Boscobel, RNAV (GPS) RWY 7, Orig

Boscobel, WI, Boscobel, RNAV (GPS) RWY 25, Orig

Boscobel, WI, Boscobel, VOR/DME RWY 25, Orig

Boscobel, WI, Boscobel, VOR/DME OR GPS-A, AMDT 3A, CANCELLED

Madison, WI, Dane County Regional-Truax Field, ILS OR LOC/DME RWY 18, Orig-A

Madison, WI, Dane County Regional-Truax Field, ILS OR LOC/DME RWY 36, Orig-B

Merrill, WI, Merrill Muni, RNAV (GPS) RWY 7, Amdt 1

Merrill, WI, Merrill Muni, RNAV (GPS) RWY 25, Amdt 1

Merrill, WI, Merrill Muni, Takeoff Minimums and Obstacle DP, Orig

Sturgeon Bay, WI, Door County Cherryland, RNAV (GPS) RWY 2, Amdt 1

Sturgeon Bay, WI, Door County Cherryland, RNAV (GPS) RWY 20, Amdt 1

Sturgeon Bay, WI, Door County Cherryland, Takeoff Minimums and Obstacle DP, Orig

* * * Effective 25 OCT 2007

Houghton Lake, MI, Roscommon County-Blodgett Memorial, RNAV (GPS) RWY 9, Amdt 1

Houghton Lake, MI, Roscommon County-Blodgett Memorial, RNAV (GPS) RWY 27, Orig

Houghton Lake, MI, Roscommon County-Blodgett Memorial, VOR RWY 9, Amdt 4

Houghton Lake, MI, Roscommon County-Blodgett Memorial, VOR RWY 27, Amdt 3

Houghton Lake, MI, Roscommon County-Blodgett Memorial, Takeoff Minimums and Obstacle DP, Amdt 1

Kalamazoo, MI, Kalamazoo/Battle Creek Intl, RNAV (GPS) RWY 17, Orig

Kalamazoo, MI, Kalamazoo/Battle Creek Intl, RADAR-1, Amdt 9

Kalamazoo, MI, Kalamazoo/Battle Creek Intl, LOC BC RWY 17, Amdt 19

Kalamazoo, MI, Kalamazoo/Battle Creek Intl, VOR RWY 17, Amdt 18

[FR Doc. E7-14077 Filed 7-26-07; 8:45 am]

BILLING CODE 4910-13-P